FEDERAL COMMUNICATIONS COMMISSION

47 CFR Part 73

[DA 02-298; MM Docket No. 01-249; RM-10272]

Radio Broadcasting Services; Telluride and Norwood, CO

AGENCY: Federal Communications Commission.

ACTION: Final rule.

SUMMARY: In response to a proposal filed on behalf of Rocky II Investments, Inc., the Commission reallots Channel 285C1 from Telluride to Norwood, Colorado as that community's first local aural transmission service, and modifies the license for Station KRYD accordingly. See 66 FR 50602, October 4, 2001. Coordinates used for Channel 285C1 at Norwood, Colorado, are 38-00-05 NL and 107-57-53 WL.

DATES: Effective March 25, 2002.

FOR FURTHER INFORMATION CONTACT: Nancy Joyner, Mass Media Bureau, (202) 418-2180.

SUPPLEMENTARY INFORMATION: This is a synopsis of the Commission's Report and Order, MM Docket No. 01-249, adopted January 30, 2002, and released February 8, 2002. The full text of this Commission decision is available for inspection and copying during normal business hours in the FCC's Reference Information Center (Room CY-A257), 445 Twelfth Street, SW., Washington, DC. The complete text of this decision may also be purchased from the Commission's copy contractor, Qualtex International, Portals II, 445-12th Street, SW., Room CY-B402, Washington, DC 20554, telephone (202) 863-2893.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Colorado, is amended by removing Telluride, Channel 285C1, and by adding Norwood, Channel 285C1.

Federal Communications Commission.
John A. Karousos,
Chief, Allocations Branch, Policy and Rules Division, Mass Media Bureau.

[FR Doc. 02-4576 Filed 2-26-02; 8:45 am]

BILLING CODE 6712-01-P